DEPARTMENT OF HOMELAND SECURITY

Coast Guard

33 CFR Part 165

[USCG-2009-0616]

Safety Zone; Chicago Harbor, Navy Pier Southeast, Chicago, IL

AGENCY: Coast Guard, DHS.

ACTION: Notice of enforcement of regulation.

SUMMARY: The Coast Guard will enforce the Navy Pier Southeast Safety Zone in Chicago Harbor from August 1, 2009, through August 29, 2009, for the Navy Pier Wednesday Fireworks and the Navy Pier Saturday Fireworks. This action is necessary and intended to ensure safety of life on the navigable waters immediately prior to, during, and immediately after fireworks events. During the enforcement period, no person or vessel may enter, move within, or exit the safety zone without permission of the Captain of the Port Lake Michigan or a designated representative.

DATES: The regulations in 33 CFR 165.931 will be enforced for the events as follows:

1. Navy Pier Wednesday Fireworks: On August 5, 2009, from 9:15 p.m. through 9:45 p.m.; on August 12, 2009, from 9:15 p.m. through 9:45 p.m.; on August 19, 2009, from 9:15 p.m. through 9:45 p.m.; on August 26, 2009, from 9:15 p.m. through 9:45 p.m.

2. Navy Pier Saturday Fireworks: On August 1, 2009, from 10 p.m. through 10:40 p.m.; on August 8, 2009, from 10 p.m. through 10:40 p.m.; on August 15, 2009, from 10 p.m. through 10:40 p.m.; on August 22, 2009, from 10 p.m. through 10:40 p.m.; on August 29, 2009, from 10 p.m. through 10:40 p.m.

FOR FURTHER INFORMATION CONTACT: If you have questions on this notice, call or e-mail BM2 Adam Kraft, Prevention Department, Coast Guard Sector Lake Michigan, Milwaukee, WI; telephone 414-747-7154, e-mail Adam.D.Kraft@uscg.mil.

SUPPLEMENTARY INFORMATION: The Coast Guard will enforce the Safety Zone; Chicago Harbor, Navy Pier Southeast, Chicago, IL, 33 CFR 165.931, for the Navy Pier Wednesday Fireworks and Navy Pier Saturday Fireworks on the dates listed in the DATES section.

Under the provisions of 3 CFR 165.931, all persons and vessels must comply with the instructions of the Coast Guard Captain of the Port or a designated representative. Upon being hailed by the U.S. Coast Guard by siren, radio, flashing light, or other means, the operator of the vessel shall proceed as directed.

All vessels must obtain permission from the Captain of the Port or their on-scene representative to enter, move within, or exit the safety zone. Vessels and persons granted permission to enter the safety zone shall obey all lawful orders or directions of the Captain of the Port or a designated representative. While within a safety zone, all vessels shall operate at the minimum speed necessary to maintain a safe course.

This notice is issued under authority of 33 CFR 165.931 Safety Zone, Chicago Harbor, Navy Pier Southeast, Chicago, IL and 5 U.S.C. 552(a). In addition to this notice in the Federal Register, the Coast Guard will provide the maritime community with advance notification of these enforcement periods via broadcast Notice to Mariners or Local Notice to Mariners. The Captain of the Port will issue a Broadcast Notice to Mariners notifying the public when enforcement of the safety zone established by this section is suspended. The Captain of the Port or their on-scene representative may be contacted via VHF-FM Channel 16.

Dated: July 16, 2009.
L. Barndt,
Captain, U.S. Coast Guard, Captain of the Port Lake Michigan.

[FR Doc. E9-18124 Filed 7-29-09; 8:45 am]

BILLING CODE 4910-15-P